DEPARTMENT OF THE TREASURY

Agency Information Collection Activities; Submission for OMB Review; Comment Request; Terrorism Risk Insurance Program

AGENCY: Departmental Offices, U.S. Department of the Treasury.

ACTION: Notice.

SUMMARY: The Department of the Treasury will submit the following information collection request to the Office of Management and Budget (OMB) for review and clearance in accordance with the Paperwork Reduction Act of 1995, on or after the date of publication of this notice. The public is invited to submit comments on this request.

DATES: Written comments must be received on or before August 9, 2017.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8142, Washington, DC 20220, or email at PRA@treasury.gov.

FOR FURTHER INFORMATION CONTACT: Copies of the submissions may be obtained from Jennifer Leonard by emailing PRA@treasury.gov, calling (202) 622-0489, or viewing the entire information collection request at www.reginfo.gov.

SUPPLEMENTARY INFORMATION:

Title: Terrorism Risk Insurance Program (TRIP).

OMB Control Number: 1505-0200.

Type of Review: Revision of a currently approved collection.

Abstract: The Terrorism Risk Insurance Program (TRIP) was established in 2002 to address market disruptions, ensure the continued widespread availability and affordability of commercial property and casualty insurance for terrorism risk, and allow for a transition period for the private markets to stabilize and build capacity while preserving state insurance regulation and consumer protections. The operation of the Program depends upon a number of information collections which may need to be made to determine the right to and amount of Federal payments to which participating insurers would be entitled. This revision is consolidating all new and existing TRIP requirements and forms under OMB Control Number 1505-0200.

Form: TRIP Forms 01, 02, 02A, 02B, 02C, 03, 04A, 04B, 05, 06 and 07.

Affected Public: Businesses and other for-profits.

Estimated Total Annual Burden Hours: 223,577.

Authority: 44 U.S.C. 3501 et seq.

Dated: July 3, 2017.
Spencer W. Clark,
Treasury PRA Clearance Officer.

[FR Doc. 2017-14360 Filed 7-7-17; 8:45 am]

BILLING CODE 4810-25-P